SMALL BUSINESS ADMINISTRATION

Central Valley Fund III (SBIC), L.P., License No. 09/09-0486; Notice Seeking Exemption Under Section 312 of the Small Business Investment Act, Conflicts of Interest

Notice is hereby given that Central Valley Fund III (SBIC), L.P., 1590 Drew Avenue, Suite 110, Davis, CA 95618, a Federal Licensee under the Small Business Investment Act of 1958, as amended (“the Act”), in connection with the financing of a small concerns, has sought an exemption under Section 312 of the Act and Section 107.730, Financings which Constitute Conflicts of Interest of the Small Business Administration (“SBA”) Rules and Regulations (13 CFR 107.730). Central Valley Fund III (SBIC), L.P. is proposing to provide financing to LightRiver Software, Inc., a wholly owned subsidiary of LightRiver Technologies Holdings, Inc. for the acquisition of Unique Computer Software Inc., 215 Gordons Corner Road, Suite 2G, Manalapan, NJ 07726.

The proposed transaction is brought within the purview of § 107.730 of the Regulations because Central Valley Fund II (SBIC), L.P., an Associate of Central Valley Fund III (SBIC), L.P. by virtue of Common Control as defined at § 107.50, collectively holds more than 10% equity interest in LightRiver Technologies, Inc., a wholly owned subsidiary of LightRiver Technologies Holdings, Inc. Therefore, LightRiver Software, Inc. is an Associate of Central Valley Fund III (SBIC), L.P. pursuant to § 107.50.

Therefore, the proposed transaction is considered self-deal pursuant to 13 CFR 107.730 and requires a regulatory exemption. Notice is hereby given that any interested person may submit written comments on the transaction within fifteen days of the date of this publication to Associate Administrator for Investment, U.S. Small Business Administration, 409 Third Street SW., Washington, DC 20416.

Dated: April 26, 2017.
A. Joseph Shepard,
Associate Administrator for Investment and Innovation.

[FR Doc. 2017-08909 Filed 5-2-17; 8:45 am]

BILLING CODE 8025-01-P